DEPARTMENT OF HEALTH AND HUMAN SERVICES

Centers for Disease Control and Prevention

[CDC-2015-0034, Docket Number NIOSH 233-A]

NIOSH List of Antineoplastic and Other Hazardous Drugs in Healthcare Settings 2016

AGENCY: National Institute for Occupational Safety and Health (NIOSH), Centers for Disease Control and Prevention (CDC), Department of Health and Human Services (HHS).

ACTION: Notice of issuance of final guidance publication.

SUMMARY: The National Institute for Occupational Safety and Health (NIOSH) of the Centers for Disease Control and Prevention (CDC), announces the availability of the following publication: NIOSH List of Antineoplastic and Other Hazardous Drugs in Healthcare Settings 2016 [2016-161].

ADDRESSES: This document may be obtained at the following link: http://www.cdc.gov/niosh/docs/2016-161/.

FOR FURTHER INFORMATION CONTACT: Barbara A. MacKenzie, NIOSH Division of Applied Research and Technology, 1090 Tusculum Avenue, MS C-26, Cincinnati, OH 45226. 513-533-8132 (not a toll free number), bmackenzie@cdc.gov.

Dated: September 27, 2016.
Frank Hearl,
Chief of Staff, National Institute for Occupational Safety and Health, Centers for Disease Control and Prevention.

[FR Doc. 2016-23719 Filed 9-30-16; 8:45 am]

BILLING CODE 4163-19-P